DEPARTMENT OF HEALTH AND HUMAN SERVICES

Centers for Disease Control and Prevention

Board of Scientific Counselors, Office of Public Health Preparedness and Response: Notice of Charter Amendment

This gives notice under the Federal Advisory Committee Act (Pub. L. 92-463) of October 6, 1972, that the Board of Scientific Counselors, Office of Public Health Preparedness and Response, Centers for Disease Control and Prevention (CDC), Department of Health and Human Services (HHS), has amended their charter to add the Tribal Epidemiology Centers as a non-voting liaison representative. The amended filing date is November 5, 2014.

For information, contact Samuel Groseclose, DVM, MPH, Board of Scientific Counselors, Office of Public Health and Preparedness and Response, Department of Health and Human Services, CDC, 1600 Clifton Road NE., Mailstop D44, Atlanta, Georgia, 30333, telephone (404) 639-0637, or fax (404) 639-7977.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office Centers for Disease Control and Prevention.

[FR Doc. 2014-27837 Filed 11-24-14; 8:45 am]

BILLING CODE 4163-18-P